DEPARTMENT OF AGRICULTURE

Submission for OMB Review; Comment Request

May 14, 2019.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by June 17, 2019. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Hawaii Crop or Livestock Loss Survey.

OMB Control Number: 0535-0264.

Summary of Collection: The primary objectives of the National Agricultural Statistics Service (NASS) are to prepare and issue official State and national estimates of crop and livestock production, disposition and prices, economic statistics, and environmental statistics related to agriculture and to conduct the Census of Agriculture and its follow-on surveys. NASS will conduct a survey of agricultural operations in Hawaii. Each selected farmer or rancher will be asked to provide data on (1) the area (acres or square feet) affected by natural disasters or weather conditions in 2018, (2) the area (acres or square feet) affected by natural disasters or weather conditions in 2018 that was replanted, and (3) the number of head of livestock affected by natural disasters or weather conditions in 2018. General authority for these data collection activities is granted under U.S.C. Title 7, Section 2204.

Need and Use of the Information: The year 2018 saw multiple disaster events in Hawaii. Disasters ranged from volcano eruption over the east side of the Big Island to several flooding rains across the Big Island, Maui, Oahu, and Kauai. The Hawaii Department of Agriculture (HDOA) has entered into a cooperative agreement with NASS to conduct a Crop or Livestock Loss Survey. The purpose of this survey is to ascertain the extent of damage from natural occurrences on an acreage/livestock basis during crop year 2018.

Description of Respondents: Farmers.

Number of Respondents: 1,000.

Frequency of Responses: Reporting: Once a year.

Total Burden Hours: 213.

Kimble Brown,
Departmental Information Collection Clearance Officer.

[FR Doc. 2019-10248 Filed 5-16-19; 8:45 am]

BILLING CODE 3410-20-P